DEPARTMENT OF COMMERCE

Foreign-Trade Zones Board

[Docket 46-2008]

Foreign-Trade Zone 38—Spartanburg County, SC; Technical Correction to Application for Subzone Status; Cornell Dubilier Marketing, Inc. (Electrolytic Capacitors)

On October 24, 2008, the South Carolina State Ports Authority, grantee of FTZ 38, submitted an application to the Foreign-Trade Zones Board (the Board) on behalf of Cornell Dubilier Marketing, Inc. (CDM), requesting special-purpose subzone status for the CDM electrolytic capacitor manufacturing plant, located in Liberty, South Carolina (73 FR 49990, 8-25-2008).

The application erroneously stated that the plant's production capacity as 6,100 capacitors annually. The applicant has submitted a correction to the application that restates the plant's production capacity to reflect 6.1 million units annually. The application remains otherwise unchanged.

Public comment is invited from interested parties. Submissions (original and 3 copies) shall be addressed to the Board's Executive Secretary at the address listed below. The closing period for their receipt is November 7, 2008. Rebuttal comments in response to material submitted during the foregoing period may be submitted during the subsequent 15-day period (to November 24, 2008).

A copy of the application is available for public inspection at each of the following addresses: Office of the Port Director, U.S. Customs and Border Protection, 150-A West Phillips Road, Greer, SC 29650; and, Office of the Executive Secretary, Foreign-Trade Zones Board, Room 2111, U.S. Department of Commerce, 1401 Constitution Avenue, NW., Washington, DC 20230-0002. For further information, contact Pierre Duy at pierre_duy@ita.doc.gov , or (202) 482-1378.

Dated: October 1, 2008.
Andrew McGilvray,
Executive Secretary.

[FR Doc. E8-23883 Filed 10-7-08; 8:45 am]

BILLING CODE 3510-DS-P